DEPARTMENT OF ENERGY

Federal Energy Regulatory Commission

[Docket Nos. CP07-62-000, CP07-63-000, CP07-64-000, CP07-65-000]

AES Sparrows Point LNG, L.C.C., Mid-Atlantic Express, L.L.C., Amendment to Previous, Notice of Technical Conference

January 8, 2008.

On Tuesday, January 15, 2008, staff of the Office of Energy Projects will convene a technical conference regarding the proposed Sparrows Point Import Terminal and Pipeline Project. The technical conference will be held at the Commission Headquarters in Washington, DC, room 3M-3.

The conference will now be held in one session at 10 a.m. (EDT) and discuss issues related to Mid-Atlantic Express's proposal to construct some of its proposed pipeline in Baltimore Gas & Electric's right of way. The conference is open to the public. The public is no longer restricted from any portion of the conference.

Any person planning to attend the January 15th technical conference must register by close of business on Monday, January 14, 2008. Registration may be submitted either online at https://www.ferc.gov/whats-new/registration/tech-conf-01-15-form.asp or by faxing a copy of the form (found at the referenced online link) to 202-208-0353. For additional information regarding the technical conference, please contact Joanne Wachholder at 202-502-8056.

Kimberly D. Bose,
Secretary.

[FR Doc. E8-509 Filed 1-14-08; 8:45 am]

BILLING CODE 6717-01-P